Title 3—

The President

Memorandum of April 21, 2005

Memorandum on Assignment of Reporting Functions under the Intelligence Reform and Terrorism Prevention Act of 2004

Memorandum for the Secretary of State[,] the Secretary of Defense[,] the Director of National Intelligence[,] the Attorney General[, and] the Secretary of Homeland Security

By the authority vested in me as President by the Constitution and laws of the United States, including section 301 of title 3, United States Code:

1. The reporting functions of the President under sections 4026(a)(4)(A), 4026(c)(2), 7104(e)(4)(A), 7202(d), 7204(c)(1)-(2), and 7119(a) of the Intelligence Reform and Terrorism Prevention Act of 2004 (Public Law 108-458, 118 Stat. 3638) (the ``Act'') are hereby assigned to the Secretary of State.

The reporting function under section 7202(d) of the Act on the Human Smuggling and Trafficking Center shall be coordinated with the Attorney General and the Secretary of Homeland Security.

Heads of departments and agencies shall, to the extent permitted by law, furnish to the Secretary of State information the Secretary requests to perform such functions, in the format and on the schedule specified by the Secretary.

2. The reporting function of the President under section 7104(i) of the Act is hereby assigned to the Secretary of Defense.

Heads of departments and agencies shall, to the extent permitted by law, furnish to the Secretary of Defense information the Secretary requests to perform such functions, in the format and on the schedule specified by the Secretary.

3. The reporting functions under sections 1022 and 1094 of the Act are hereby assigned to the Director of National Intelligence.

Heads of departments and agencies shall, to the extent permitted by law, furnish to the Director of National Intelligence information the Director requests to perform such functions, in the format and on the schedule specified by the Director.

The Secretaries of State and Defense, and the Director of National Intelligence shall perform such functions in a manner consistent with the President's constitutional authority to withhold information the disclosure of which could impair foreign relations, national security, the deliberative processes of the Executive, or the performance of the Executive's constitutional duties.

Any reference in this memorandum to the provision of any Act shall be deemed to include references to any hereafter-enacted provision of law that is the same or substantially the same as such provision.

The Secretary of State is authorized and directed to publish this memorandum in the Federal Register.

B

THE WHITE HOUSE,

Washington, April 21, 2005.

[FR Doc. 05-16628

Filed 8-18-05; 8:45 am]

Billing code 4710-10-P